DEPARTMENT OF TRANSPORTATION

Research and Special Programs Administration

Office of Hazardous Materials Safety; Notice of Applications for Modification of Exemption

AGENCY: Research and Special Programs Administration, DOT.

ACTION: List of applications for modification of exemptions.

SUMMARY: In accordance with the procedures governing the application for, and the processing of, exemptions from the Department of Transportation's Hazardous Materials Regulations (49 CFR part 107, subpart B), notice is hereby given that the Office of Hazardous Materials Safety has received the applications described herein. This notice is abbreviated to expedite docketing and public notice. Because the sections affected, modes of transportation, and the nature of application have been shown in earlier Federal Register publications, they are not repeated here. Requests for modifications of exemptions (e.g. to provide for additional hazardous materials, packaging design changes, additional mode of transportation, etc.) are described in footnotes to the application number. Applications numbers with the suffix “M” denote a modification request. These applications have separated from the new applications for exemptions to facilitate processing.

DATES: Comments must be received on or before August 5, 2002.

ADDRESS COMMENTS TO: Records Center, Research and Special Programs, Administration, U.S. Department of Transportation, Washington, DC 20590.

Comments should refer to the application number and be submitted in triplicate. If confirmation of receipt of comments is desired, include a self-addressed stamped postcard showing the exemption number.

FOR FURTHER INFORMATION CONTACT: Copies of the applications are available for inspection in the Records Center, Nassif Building, 400 4th Street SW., Washington, DC or at http://dms.dot.gov.

This notice is receipt of applications for modification of exemptions is published in accordance with Part 107 of the Federal hazardous materials transportation law (49 U.S.C. 5117(b); 49 CFR 1.53(b)).

Issued in Washington, DC on July 12, 2002.
R. Ryan Posten,
Exemptions Program Officer, Office of Hazardous Materials, Exemptions and Approvals.

Application No. | Docket No. | Applicant | Modification of Exemption
7657-M |  | Welker Engineering Company, Sugar Land, TX (See Footnote 1) | 7657
8232-M |  | National Refrigerants, Inc., Philadelphia, PA (See Footnote 2) | 8232
10389-M |  | Great Lakes Chemical Corporation, El Dorado, AR (See Footnote 3) | 10389
10789-M |  | Allied Universal Corporation, Miami, FL (See Footnote 4) | 10789
11099-M |  | AMKO A Service Company, Gnadenhutten, OH (See Footnote 5) | 11099
11202-M |  | Newport News Shipbuilding & Dry Dock Company, Newport News, VA (See Footnote 6) | 11202
11537-M |  | Interstate Chemical Company, Inc., Hermitage, PA (See Footnote 7) | 11537
11650-M |  | Autoliv ASP, Inc., Ogden, UT (See Footnote 8) | 11650
11753-M |  | Ashland, Inc., Columbus, OH (See Footnote 9) | 11753
11970-M | RSPA-97-2993 | ExxonMobil Chemical Company, Houston, TX (See Footnote 10) | 11970
12690-M | RSPA-01-9656 | Air Liquide America Corporation, Houston, TX (See Footnote 11) | 12690
12750-M | RSPA-01-10121 | Questar, Inc., North Canton, OH (See Footnote 12) | 12750
12844-M | RSPA-01-10753 | Delphi Automotive Systems, Troy, MI (See Footnote 13) | 12844
12855-M | RSPA-01-10914 | Kraton Polymers U.S. LLC, Belpre, OH (See Footnote 14) | 12855
12917-M | RSPA-02-12038 | Northwest Ohio Towing & Recovery, Inc., Beaverdam, OH (See Footnote 15) | 12917
12981-M |  | Airgas, Inc., Cheyenne, WY (See Footnote 16) | 12981
(1) To modify the exemption to authorize the transportation of additional Division 2.1 and 2.2 materials in non-DOT specification stainless steel cylinders.
(2) To modify the exemption to authorize the transportation of a Division 2.2 material in non-DOT specification portable tanks.
(3) To modify the exemption to authorize the transportation of a Division 6.1 and additional Class 8 material in tank cars.
(4) To modify the exemption to authorize the retest period from 2 to 5 years for non-DOT specification fully open-head steel salvage cylinders and the use of a 3AA480 cylinder for the transportation of Division 2.3 materials.
(5) To modify the exemption to authorize retesting of DOT Specification 3A and 3AA cylinders by acoustic emission (AE) and ultrasonic examination (UE) method for the transportation of Division 2.1 and 2.2 materials.
(6) To modify the exemption to authorize the transportation of Division 5.2, 6.1 and additional Division 5.1 materials across a public road via motor vehicle.
(7) To modify the exemption to authorize the transportation of an additional Class 8 material in an intermediate bulk container (IBC) that is securely mounted to a flatbed trailer.
(8) To modify the exemption to authorize an additional design qualification of the non-DOT specification pressure vessel sidewall opening for the transportation of Division 2.2 materials.
(9) To modify the exemption to authorize the use of a 300 kpa rated container for the transportation of a Class 8 material.
(10) To modify the exemption to authorize the use of alternative size non-DOT specification steel portable tanks for the transportation of a Division 4.2 material.
(11) To modify the exemption to authorize cargo vessel as an additional mode for the transportation of a Division 2.3 material in DOT Specifications 3AA steel cylinders.
(12) To modify the exemption to authorize an additional 11HH2 Rigid Combination Intermediate Bulk Container (IBC) marking code for use as outer packaging for lab pack applications transporting various Class and Division materials.
(13) To modify the exemption to authorize relief from the requirement for each non-DOT specification pressure vessel longitudinal weld seam to be 100% radiographically inspected for the transportation of Division 2.2 materials.
(14) To reissue the exemption originally issued on an emergency basis for the transportation of non-DOT specification pressure vessels containing a Class 3 material.
(15) To reissue the exemption originally issued on an emergency basis for the transportation of Class 3 materials in non-DOT specification cargo tanks (aviation refuelers).
(16) To reissue the exemption originally issued on an emergency basis for the transportation of a Division 2.2 material in DOT Specification MC-330 and MC-331 cargo tank motor vehicles with an alternate means to shut down the flow of product.

[FR Doc. 02-18208 Filed 7-18-02; 8:45am]

BILLING CODE 4910-60-M